DEPARTMENT OF ENERGY

Federal Energy Regulatory Commission

Notice of Application Accepted For Filing and Soliciting Motions to Intervene and Protests

April 20, 2000.

Take notice that the following hydroelectric application has been filed with the Commission and is available for public inspection:

a. Type of Application: Preliminary Permit.

b. Project No.: P-11835-000.

c. Date filed: January 14, 2000.

d. Applicants: Colorado Springs Utilities and Southeastern and Colorado Water Conservancy District.

e. Name of Project: Pueblo Dam Hydro Project.

f. Location: At the existing U.S. Bureau of Reclamation's Pueblo Dam and Reservoir on the Arkansas River, near the Town of Pueblo, Pueblo County, Colorado.

g. Filed Pursuant to: Federal Power Act 16 U.S.C. 791 (a)-825(r).

h. Applicant Contact: Mr. Philip C. Saletta, Managing Engineer, Colorado Springs Utilities, 30 South Nevada Avenue, Suite 703, Colorado Springs, CO 80903, (719) 448-8713 or E-mail at psaletta@CSU.org

i. FERC Contact: Ed Lee (202) 219-2809 or E-mail address at Ed.Lee@FERC.fed.us.

j. Deadline Date: 60 days from the issuance date of this notice.

All documents (original and eight copies) should be filed with: David P. Boergers, Secretary, Federal Energy Regulatory Commission, 888 First Street, NE, Washington, DC 20426.

The Commission's Rules of Practice and Procedure require all intervenors filing documents with the Commission to service a copy of that document on each person whose name appears to the official service list for the project. Further, if an intervenor files comments or documents with the Commission relating to the merits of an issue that may affect the responsibilities of a particular resource agency, they must also serve a copy of the document on that resource agency.

k. Competing Application: Project No. 11812-000, date filed September 2, 1999, comment due date December 16, 1999.

l. This application is not ready for environmental analysis at this time.

m. Description of Project: The proposed would utilize the existing U.S. Bureau of Reclamation's Pueblo Dam and Reservoir, and would consist of the following facilities: (1) Four new steel penstocks; (2) a new powerhouse to be constructed on the downstream side of the dam having an installed capacity of 10,600 kilowatts; (3) a new 14.7-kilovolt transmission line; and (4) appurtenant facilities. The proposed average annual generation is estimated to be 37.2 gigawatthours. the cost of the studies under the permit will not exceed $200.00.

n. Available Locations of Application: A copy of the application is available for inspection and reproduction at the Commission's Public Reference and Files Maintenance Branch, located at 888 First Street, N.E., Room 2-A, Washington, D.C. 20426, or by calling (202) 219-1371. A copy is also available for inspection and reproduction by contacting the applicant in Item h. A copy of the application may also be viewed or printed by accessing the Commission's website on the Internet at http://www.ferc.fed.us/online/rims.htm or call (202) 208-2222 for assistance.

o. Individuals desiring to be included on the Commission's mailing list should so indicate by writing to the Secretary of the Commission.

Preliminary Permit—Public notice of the filing of the initial preliminary permit application, which has already been given, established the due date for filing competing preliminary permit applications or notice of intent. Any competing preliminary permit or development application or notice of intent to file a competing preliminary permit or development application must be filed in response to and in compliance with the public notice of the initial preliminary permit application. No competing applications or notices of intent to file competing applications may be filed in response to this notice. A competing license application must conform with 18 CFR 4.30 (b) and 4.36.

Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “NOTICE OF INTENT TO FILE COMPETING APPLICATION”, “PROTEST”, “MOTION TO INTERVENE”, as applicable, and the Project Number of the particular application to which the filing refers. Any of the above-names documents must be filed by providing the original and the number of copies provided by the Commission's regulations to: The Secretary, Federal Energy Regulatory Commission, 888 First Street, N.E., Washington, D.C. 20426. An additional copy must be sent to Director, Division of Project Review, Federal Energy Regulatory Commission, at the above-mentioned address. A copy of any notice of intent, competing application or motion to intervene must also be served upon each representative of the Applicant specified in the particular application.

Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 00-10337 Filed 4-25-00; 8:45 am]

BILLING CODE 6717-01-M